DEPARTMENT OF THE INTERIOR

National Park Service

[NPS-WASO-NAGPRA-NPS0030081; PPWOCRADN0-PCU00RP14.R50000]

Notice of Inventory Completion: Robert S. Peabody Institute of Archaeology, Andover, MA

AGENCY: National Park Service, Interior.

ACTION: Notice.

SUMMARY: The Robert S. Peabody Institute of Archaeology has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Robert S. Peabody Institute of Archaeology. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Robert S. Peabody Institute of Archaeology at the address in this notice by May 20, 2020.

ADDRESSES: Ryan Wheeler, Robert S. Peabody Institute of Archaeology, Phillips Academy, 180 Main Street, Andover, MA 01810, telephone (978) 749-4490, email rwheeler@andover.edu.

SUPPLEMENTARY INFORMATION: Notice is here given in accordance with the Native American Graves Protection and Repatriation Act (NAGPRA), 25 U.S.C. 3003, of the completion of an inventory of human remains and associated funerary objects under the control of the Robert S. Peabody Institute of Archaeology, Andover, MA. The human remains and associated funerary objects were removed from the Lowlands site (28ME1), also known as Abbott Farm, Trenton, Mercer County, NJ.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains and associated funerary objects was made by the Robert S. Peabody Institute of Archaeology professional staff in consultation with representatives of the Delaware Nation, Oklahoma and the Delaware Tribe of Indians.

History and Description of the Remains

In 1891 and 1892, human remains representing, at minimum, five individuals were removed by Ernest Volk during excavations at the lowlands village and Lalor Field in Mercer County, NJ, which today form part of the Abbott Farm National Historic Landmark. Volk (1845-1919) was a German archeologist who came to the United States in 1867, and worked for Frederic Ward Putnam of the Harvard Peabody Museum of Archaeology and Ethnology. Volk worked closely with Charles Conrad Abbott, and focused much of his 22 year-long investigation on components of the Abbott Farm site, including the “Lowlands,” and other sites of the Delaware Valley. Volk's work was detailed in The Archaeology of the Delaware Valley (1911). The glacial deposits, known as the Trenton Gravels, figured prominently in his ideas about the earliest settlement of the Americas. It is unclear how some of Volk's collections might have come to the Robert S. Peabody Institute of Archaeology, though possibly via Frederic Ward Putnam, who was associated with curator Warren K. Moorehead and honorary directory Charles Peabody during the early twentieth century. The collection at RSPIA was not accessioned or cataloged until recently. Examination by physical anthropologists Michael Gibbons and Harley Erikson identified a minimum of five individuals: Two adult females, one sub-adult female, and two individuals of indeterminate sex and age. No known individuals were identified. The 218 associated funerary objects are 12 mica fragments; 10 wood fragments (some have been burned); one shell fragment; three unmodified stone fragments; 13 burned unidentified bone fragments; 32 stone fragments; one bone fragment; 102 chipped stone fragments; 43 ceramic sherds; and one triangular projectile point.

Geographic affiliation is consistent with the historically documented territory of the Delaware Tribes (also called the Lenape). Archeological evidence is consistent with documented use of the area by the Delaware Tribes. Linguistic, historical, and oral traditional information provide additional lines of evidence of a shared group identity between the Delaware Tribes and the Lowlands site at Abbott Farm.

Determinations Made by the Robert S. Peabody Institute of Archaeology

Officials of the Robert S. Peabody Institute of Archaeology have determined that:

• Pursuant to 25 U.S.C. 3001(9), the human remains described in this notice represent the physical remains of five individuals of Native American ancestry.

• Pursuant to 25 U.S.C. 3001(3)(A), the 218 objects described in this notice are reasonably believed to have been placed with or near individual human remains at the time of death or later as part of the death rite or ceremony.

• Pursuant to 25 U.S.C. 3001(2), there is a relationship of shared group identity that can be reasonably traced between the Native American human remains and associated funerary objects and the Delaware Nation, Oklahoma; Delaware Tribe of Indians; and the Stockbridge Munsee Community, Wisconsin (hereafter referred to as “The Tribes”).

Additional Requestors and Disposition

Lineal descendants or representatives of any Indian Tribe or Native Hawaiian organization not identified in this notice that wish to request transfer of control of these human remains and associated funerary objects should submit a written request with information in support of the request to Ryan Wheeler, Robert S. Peabody Institute of Archaeology, Phillips Academy, 180 Main Street, Andover, MA 01810, telephone (978) 749-4490, email rwheeler@andover.edu, by May 20, 2020. After that date, if no additional requestors have come forward, transfer of control of the human remains and associated funerary objects to The Tribes may proceed.

The Robert S. Peabody Institute of Archaeology is responsible for notifying The Tribes that this notice has been published.

Dated: March 25, 2020.
Melanie O'Brien,
Manager, National NAGPRA Program.

[FR Doc. 2020-08320 Filed 4-17-20; 8:45 am]

BILLING CODE 4312-52-P